DEPARTMENT OF TRANSPORTATION

Federal Aviation Administration

Unmanned Aircraft Systems Beyond Visual Line of Sight Aviation Rulemaking Committee Final Report; Notice of Public Meeting

AGENCY: Federal Aviation Administration (FAA), U.S. Department of Transportation (DOT).

ACTION: Notice of public meeting.

SUMMARY: This action announces a public meeting of the UAS Beyond Visual Line of Sight (BVLOS) Aviation Rulemaking Committee (ARC) Final Report.

DATES: The meeting will be held on June 22, 2022, from 5:30 p.m.-7:30 p.m. Eastern Time.

Request for accommodations to a disability must be received by June 13, 2022.

Request to provide oral comment must be received by June 7, 2022.

Written comments will be accepted through June 29, 2022.

ADDRESSES: This meeting will be held virtually. Members of the public who wish to view the meeting can access the livestream on the following FAA social media platforms on the day of the event, https://www.facebook.com/FAA or https://www.youtube.com/FAAnews.

Members of the public who wish to provide written comments and/or oral comments may do so by emailing 9-FAA-UAS-BVLOS@faa.gov.

Meeting minutes and other information will be posted at: https://www.faa.gov/regulations_policies/rulemaking/committees/documents/index.cfm/committee/browse/committeeID/837.

FOR FURTHER INFORMATION CONTACT: Laura E. Gómez, 202-267-8076, Federal Aviation Administration, at 9-FAA-UAS-BVLOS@faa.gov with “Attention to Laura E. Gómez” in the subject line.

SUPPLEMENTARY INFORMATION:

Background

On June 8, 2021, the FAA established the UAS BVLOS ARC to provide recommendations to the FAA on performance-based regulatory requirements to normalize safe, scalable, economically viable, and environmentally advantageous UAS BVLOS operations that are not under positive air traffic control (ATC). The UAS BVLOS ARC, composed of stakeholders from 86 organizations, was tasked with providing recommendations that addressed requirements and supported concepts of the following BVLOS operations: Long-line linear infrastructure inspections, industrial aerial data gathering, small package delivery, and precision agriculture operations, including crop spraying.

A copy of the UAS BVLOS ARC charter and final report can be downloaded at: https://www.faa.gov/regulations_policies/rulemaking/committees/documents/index.cfm/committee/browse/committeeID/837.

Purpose

The FAA is hosting a public meeting to give members of the public an opportunity to comment on the UAS BVLOS ARC Final Report. We invite public comments related to all aspects of the final report. In particular, we are interested in comments related to initial reactions and areas that the FAA should further explore for performance-based regulatory requirements to normalize safe, scalable, economically viable, and environmentally advantageous UAS BVLOS operations that are not under positive ATC.

Public Participation

Requests to provide oral comments related to the BVLOS ARC report during the meeting must be received no later than June 7, 2022, and must include the commenter's full name and email address. Requests received without this information may not be given the opportunity to provide oral comment. The opportunity to provide oral comment will be given in the order that the requests are received. Comments should be limited to five minutes and must be reserved to the topic of the BVLOS ARC Final Report. Members of the public who submit a request to make oral comments during the meeting will receive a confirmation email with instructions on how to participate in the meeting virtually.

Commenters who may need longer than five minutes are strongly encouraged to submit a written comment. The FAA will accept written comments until June 29, 2022.

The U.S. Department of Transportation is committed to providing equal access to this meeting for all participants. If you need alternative formats or services because of a disability, such as sign language, interpretation, or other ancillary aids, please contact the person listed in the FOR FURTHER INFORMATION CONTACT section.

Issued in Washington, DC.
Abigail A. Smith,
Deputy Executive Director, UAS Integration Office (AUS), Federal Aviation Administration.

[FR Doc. 2022-10164 Filed 5-11-22; 8:45 am]

BILLING CODE 4910-13-P